DEPARTMENT OF HEALTH AND HUMAN SERVICES

Centers for Disease Control and Prevention

[60 Day-10-0798]

Proposed Data Collections Submitted for Public Comment and Recommendations; Correction

Centers for Disease Control and Prevention

Notice; Correction

The Centers for Disease Control and Prevention published a document in the Federal Register titled 60-day 10-0798. The document contained the incorrect OMB number and expiration date.

FOR FURTHER INFORMATION CONTACT: Maryam Daneshvar, 404-639-4604

Correction

In the Federal Register of August 12, 2010, Volume 75, Number 155, in FR Doc. 2010-19911 page 48972, under the Proposed Project paragraph correct (OMB No. 0920-0753 exp. 10/31/2010) to read: (OMB No. 0920-0798 exp. 1/31/2011).

Dated: August 12, 2010.
Maryam I, Daneshvar,
Reports Clearance Officer, Centers for Disease Control and Prevention.

[FR Doc. 2010-20570 Filed 8-18-10; 8:45 am]

BILLING CODE 4163-18-P